DEPARTMENT OF HEALTH AND HUMAN SERVICES

Centers for Medicare & Medicaid Services

42 CFR Parts 411, 412, 413, and 489

[CMS-1533-CN]

RIN 0938-A070

Medicare Program; Proposed Changes to the Hospital Inpatient Prospective Payment Systems and Fiscal Year 2008 Rates; Correction

AGENCY: Centers for Medicare & Medicaid Services (CMS), HHS.

ACTION: Correction of proposed rule.

SUMMARY: This document corrects technical errors that appeared in the proposed rule entitled “Medicare Program; Proposed Changes to the Hospital Inpatient Prospective Payment Systems and Fiscal Year 2008 Rates” that appeared in the May 3, 2007 Federal Register.

FOR FURTHER INFORMATION CONTACT: Marc Hartstein, (410) 786-4548.

SUPPLEMENTARY INFORMATION:

I. Background

In FR Doc. 07-1920 of May 3, 2007 (72 FR 24680), there were a number of technical errors that are identified and corrected in the Correction of Errors section of this notice. We issued the fiscal year (FY) 2008 hospital inpatient prospective payment systems (IPPS) proposed rule on April 13, 2007. The FY 2008 IPPS proposed rule appeared in the May 3, 2007 Federal Register.

II. Summary of Errors

We recently discovered that an error was made in the calculation of the DRG relative weights presented in the FY 2008 IPPS proposed rule. We have revised the relative weights to correct the error and have recalculated the standardized amounts. These changes increase the standardized amounts slightly and reduce the proposed FY 2008 outlier threshold by $85. Further, these revisions affect the DRG-specific costs thresholds for new technology add-on payments. Therefore, in this notice we are correcting the following:

• Preamble language regarding the methodology used to calculate charge-based and cost-based relative weights.

• Outlier threshold.

• Recalibration, wage and recalibration, geographic reclassification, and rural floor budget neutrality factors.

• Tables 1A through 1D, 2, 4A, 4C, 4J, 5, 10.

• Impact analysis tables (Tables I and II).

In addition, we have posted these corrected tables on our Web site at http://www.cms.hhs.gov/AcuteInpatientPPS/WIFN/list.asp.

III. Correction of Errors

In FR Doc. 07-1920 of May 3, 2007 (72 FR 24680), make the following corrections:

A. Corrections to the Preamble

1. On page 24711, second column, last paragraph, sixth line from the bottom, the figure “$23,015” is corrected to read “$22,930.”

2. On page 24746, second column,

a. Third full paragraph, line 9, the phrase, “in the FY 2005 MedPAR” is corrected to read “in the FY 2006 MedPAR.”

b. Fifth full paragraph, last line, after the phrase “cost of living adjustment.”, the following sentence is added to read as follows:

“Beginning with FY 2008, because hospital charges include charges for both operating and capital costs, we are proposing to standardize total charges to remove the effects of differences in geographic adjustment factors, large urban add-on payments, cost-of-living adjustment, disproportionate share payments, and IME adjustments under the capital IPPS as well.”

3. On page 24747, first column, third full paragraph, last line, after the phrase “cost of living adjustment.” and before the phrase “Charges were then”, the following sentence is added to read as follows:

“Beginning with FY 2008, because hospital charges include charges for both operating and capital costs, we are proposing to standardize total charges to remove the effects of differences in geographic adjustment factors, large urban add-on payments, cost-of-living adjustment, disproportionate share payments, and IME adjustments under the capital IPPS as well.”

B. Corrections to the Addendum

1. On page 24836,

a. First column, second full paragraph,

(1) Line 14, the figure “0.999317” is corrected to read “0.999367.”

(2) Lines 19 and 29, the figure “0.998557” is corrected to read “0.998573.”

b. Second column, first partial paragraph, line 17, the figure “0.991938” is corrected to read “0.991925.”

2. On page 24837, second column, second full paragraph, line 6, the figure “$23,015” is corrected to read “$22,930”.

3. On page 24839, top half of the page, in the table Comparison of FY 2007 Standardized Amounts to Proposed FY 2008 Single Standardized Amount with Full Update and Reduced Update, the figures in the listed entries are corrected to read as follows:

| Full update (3.3 percent) | Reduced update (1.3 percent)
FY 2008 DRG Recalibrations and Wage Index Budget Neutrality Factor | 0.999367 | 0.999367
FY 2008 Reclassification Budget Neutrality Factor | 0.991925 | 0.991925

4. On page 24846, third column, first full paragraph,

a. Line 38, the figure “$417.26” is corrected to read “$417.12.”

b. Line 40, the figure “$413.87” is corrected to read “$413.73.”

5. On page 24847,

a. Middle of the page, in the table Comparison of Factors and Adjustments: FY 2007 Capital Federal Rate and Proposed FY 2008 Capital Federal Rate for Urban Hospitals, third column, last row, the figure, “$413.87” is corrected to read “$413.73.”

b. Lower third of the page, in the table Comparison of Factors and Adjustments: FY 2007 Capital Federal Rate and Proposed FY 2008 Capital Federal Rate for Rural Hospitals, third column, last row, the figure “$417.26” is corrected to read “$417.12.”

6. On page 24848,

a. First column, fourth full paragraph,

(1) Line 10, the phrase “is $197.21” is corrected to read “is $197.11.”.

(2) Line 12, the figure “$195.60” is corrected to read “$195.51.”

b. Second column, third paragraph, last line, the figure “$23,015” is corrected to read “$22,930”.

7. On page 24850, in Table 1A.—National Adjusted Operating Standardized Amounts, Labor/Nonlabor (69.7 Percent Labor Share/30.3 Percent Nonlabor Share If Wage Index Greater Than 1), the table is corrected to read as follows:

Table 1A.—National Adjusted Operating Standardized Amounts, Labor/Nonlabor (69.7 Percent Labor Share/30.3 Percent Nonlabor Share If Wage Index Greater Than 1)
Full update (3.3 percent): Labor-related | Full update (3.3 percent): Nonlabor-related | Reduced update (1.3 Percent): Labor-related | Reduced update (1.3 Percent): Nonlabor-related
$3,430.41 | $1,491.27 | $3,363.99 | $1,462.40

8. On page 24850, in Table 1B.—National Adjusted Operating Standardized Amounts, Labor/Nonlabor (62 Percent Labor Share/38 Percent Nonlabor Share If Wage Index Less Than Or Equal To 1), the table is corrected to read as follows:

Table 1B.—National Adjusted Operating Standardized Amounts, Labor/Nonlabor (62 Percent Labor Share/38 Percent Nonlabor Share If Wage Index Less Than or Equal to 1)
Full update (3.3 percent): Labor-related | Full update (3.3 percent): Nonlabor-related | Reduced update (1.3 Percent): Labor-related | Reduced update (1.3 Percent): Nonlabor-related
$3,051.44 | $1,870.24 | $2,992.36 | $1,834.03

9. On page 24850, in Table 1C.—Adjusted Operating Standardized Amounts For Puerto Rico Labor, Labor/Nonlabor, the table is corrected to read as follows:

Table 1C.—Adjusted Operating Standardized Amounts for Puerto Rico, Labor/Nonlabor
| Rates if wage index greater than 1: Labor | Rates if wage index greater than 1: Nonlabor | Rates if wage index less than or equal to 1: Labor | Rates if wage index less than or equal to 1: Nonlabor
National | $3,430.41 | $1,491.27 | $3,363.99 | $1,462.40
Puerto Rico | 1,442.16 | 883.90 | 1,365.40 | 960.66

10. On page 24850, in Table 1D.—Capital Standard Federal Payment Rate, the table is corrected to read as follows:

Table 1D.—Capital Standard Federal Payment Rate
| Urban rate | Rural rate
National | $413.73 | $417.12
Puerto Rico | 195.51 | 197.11

11. On pages 24851 through 24917, in Table 2.—Hospital Case-Mix Indexes For Discharges Occurring in Federal Fiscal Year 2006; Hospital Wage Indexes For Federal Fiscal Year 2008; Hospital Average Hourly Wages For Federal Fiscal Years 2006 (2002 Wage Data), 2007 (2003 Wage Data), And 2008 (2004 Wage Data); And 3-Year Average Of Hospital Average Hourly Wages, the wage index for the listed provider numbers are corrected to read as follows:

Provider No. | FY 2008 wage index
010012 | 0.9390
010047 | 0.7776
010052 | 0.7701
010109 | 0.8049
010110 | 0.7900
010164 | 0.8042
040014 | 0.8720
040017 | 0.8718
040041 | 0.8720
040071 | 0.8720
040076 | 0.8720
040078 | 0.8720
040100 | 0.8720
040119 | 0.8720
050007 | 1.4907
050008 | 1.4792
050009 | 1.4200
050013 | 1.4200
050016 | 1.2015
050047 | 1.4792
050055 | 1.4792
050070 | 1.4907
050113 | 1.4907
050152 | 1.4792
050228 | 1.4792
050232 | 1.2015
050280 | 1.2826
050289 | 1.4907
050407 | 1.4792
050454 | 1.4792
050457 | 1.4792
050506 | 1.2015
050633 | 1.2015
050667 | 1.4200
050668 | 1.4792
050697 | 1.2826
050707 | 1.4907
050733 | 1.2826
050754 | 1.4907
060010 | 0.9730
060030 | 0.9730
080001 | 1.0777
080003 | 1.0777
100102 | 0.8874
100290 | 0.9331
110107 | 0.9752
110164 | 0.9752
110201 | 0.9752
130066 | 0.9680
130068 | 0.9680
150015 | 0.8904
160030 | 1.0022
180013 | 0.9407
180064 | 0.8131
180066 | 0.9407
180079 | 0.8075
180080 | 0.8042
180124 | 0.9407
190044 | 0.7849
190190 | 0.7752
190246 | 0.7752
200032 | 0.8878
210028 | 0.9429
230036 | 0.9398
230041 | 0.9398
230047 | 1.0091
230080 | 0.9398
230105 | 0.9398
230195 | 1.0091
230204 | 1.0091
230222 | 0.9398
230227 | 1.0091
230257 | 1.0091
230264 | 1.0091
230297 | 1.0091
230299 | 1.0091
230300 | 1.0091
240006 | 1.0760
240010 | 1.0760
240018 | 1.0084
240061 | 1.0760
240069 | 1.0760
240071 | 1.0760
270081 | 0.8574
280065 | 0.9746
310010 | 1.0812
310011 | 1.0864
310014 | 1.0777
310044 | 1.0812
310081 | 1.0777
310092 | 1.0812
310110 | 1.0812
320001 | 0.9739
320005 | 0.9739
320006 | 0.9739
320009 | 0.9739
320011 | 0.9407
320017 | 0.9739
320019 | 0.9739
320021 | 0.9739
320037 | 0.9739
320074 | 0.9739
320079 | 0.9739
320083 | 0.9739
330135 | 1.1528
330205 | 1.1528
330264 | 1.1528
340133 | 0.8916
360044 | 0.8825
370113 | 0.8718
380029 | 1.0479
380051 | 1.0479
380056 | 1.0479
390044 | 1.0777
390096 | 1.0777
390133 | 1.0777
410013 | 1.1793
430012 | 0.9394
430013 | 0.9394
430048 | 0.8398
440011 | 0.8042
440015 | 0.8042
440019 | 0.8042
440030 | 0.7972
440034 | 0.8042
440035 | 0.9407
440056 | 0.8042
440073 | 0.9407
440084 | 0.7949
440110 | 0.8042
440120 | 0.8042
440125 | 0.8042
440144 | 0.9407
440148 | 0.9407
440151 | 0.9407
440153 | 0.7923
440173 | 0.8042
440175 | 0.9407
440192 | 0.9407
440225 | 0.8042
440226 | 0.8042
450370 | 0.8444
450565 | 0.8690
450755 | 0.8498

12. On pages 24924, 29426, and 24941, in Table 4A.—Wage Index and Capital Geographic Adjustment Factor (GAF) for Urban Areas by CBSA—FY 2008, the wage index and GAF for the listed CBSAs are corrected to read as follows:

CBSA code | Urban area | Wage index | GAF
10740 | Albuquerque, NM | 0.9739 | 0.9821
| Bernalillo County, NM
| Sandoval County, NM
| Torrance County, NM
| Valencia County, NM
13020 | Bay City MI | 0.9398 | 0.9584
| Bay County, MI
40340 | Rochester, MN | 1.0760 | 1.0514
| Dodge County, MN
| Olmsted County, MN
| Wabasha County, MN

13. On pages 24948 through 24951, in Table 4C.—Wage Index And Capital Geographic Adjustment Factor (GAF) For Hospitals That Are Reclassified By CBSA FY 2008, the wage indices and GAFs for the listed areas are corrected to read as follows:

CBSA code | Area | Wage index | GAF
10740 | Albuquerque, NM | 0.9739 | 0.9821
13020 | Bay City, MI | 0.9398 | 0.9584
22220 | Fayetteville-Springdale-Rogers, AR-MO | 0.8718 | 0.9103
35980 | Norwich-New London, CT | 1.1793 | 1.1196
40340 | Rochester, MN | 1.0760 | 1.0514
40660 | Rome, GA | 0.9390 | 0.9578
43620 | Sioux Falls, SD | 0.9394 | 0.9581

14. On pages 24952 through 24960, in Table 4J.—Out-Migration Adjustment—FY 2008, the entries for the listed providers are corrected to read as follows:

Provider No. | Reclassified for FY 2008 | Out-migration adjustment | Qualifying county name | County code
010009 | * | 0.0092 | MORGAN | 01510
010025 | * | 0.0235 | CHAMBERS | 01080
010038 |  | 0.0039 | CALHOUN | 01070
010047 |  | 0.0178 | BUTLER | 01060
010052 |  | 0.0103 | TALLAPOOSA | 01610
010054 | * | 0.0092 | MORGAN | 01510
010065 | * | 0.0103 | TALLAPOOSA | 01610
010078 |  | 0.0039 | CALHOUN | 01070
010085 | * | 0.0092 | MORGAN | 01510
010109 |  | 0.0451 | PICKENS | 01530
010110 |  | 0.0302 | BULLOCK | 01050
010146 |  | 0.0039 | CALHOUN | 01070
010150 | * | 0.0178 | BUTLER | 01060
050007 |  | 0.0141 | SAN MATEO | 05510
050008 |  | 0.0026 | SAN FRANCISCO | 05480
050016 |  | 0.0103 | SAN LUIS OBISPO | 05500
050047 |  | 0.0026 | SAN FRANCISCO | 05480
050055 |  | 0.0026 | SAN FRANCISCO | 05480
050070 |  | 0.0141 | SAN MATEO | 05510
050076 | * | 0.0026 | SAN FRANCISCO | 05480
050113 |  | 0.0141 | SAN MATEO | 05510
050152 |  | 0.0026 | SAN FRANCISCO | 05480
050194 | * | 0.0052 | SANTA CRUZ | 05540
050197 | * | 0.0141 | SAN MATEO | 05510
050228 |  | 0.0026 | SAN FRANCISCO | 05480
050232 |  | 0.0103 | SAN LUIS OBISPO | 05500
050242 | * | 0.0052 | SANTA CRUZ | 05540
050289 |  | 0.0141 | SAN MATEO | 05510
050407 |  | 0.0026 | SAN FRANCISCO | 05480
050454 |  | 0.0026 | SAN FRANCISCO | 05480
050457 |  | 0.0026 | SAN FRANCISCO | 05480
050506 |  | 0.0103 | SAN LUIS OBISPO | 05500
050541 | * | 0.0141 | SAN MATEO | 05510
050633 |  | 0.0103 | SAN LUIS OBISPO | 05500
050668 |  | 0.0026 | SAN FRANCISCO | 05480
050707 |  | 0.0141 | SAN MATEO | 05510
050714 | * | 0.0052 | SANTA CRUZ | 05540
050754 |  | 0.0141 | SAN MATEO | 05510
060010 |  | 0.0153 | LARIMER | 06340
060030 |  | 0.0153 | LARIMER | 06340
080001 | * | 0.0063 | NEW CASTLE | 08010
080003 | * | 0.0063 | NEW CASTLE | 08010
100102 |  | 0.0125 | COLUMBIA | 10110
100156 | * | 0.0125 | COLUMBIA | 10110
100290 |  | 0.0582 | SUMTER | 10590
110146 | * | 0.0805 | CAMDEN | 11170
130049 | * | 0.032 | KOOTENAI | 13270
130066 |  | 0.032 | KOOTENAI | 13270
130067 | * | 0.0696 | BINGHAM | 13050
130068 |  | 0.032 | KOOTENAI | 13270
140167 | * | 0.1055 | IROQUOIS | 14460
150006 | * | 0.0113 | LA PORTE | 15450
150015 |  | 0.0113 | LA PORTE | 15450
150146 | * | 0.0319 | NOBLE | 15560
160030 |  | 0.004 | STORY | 16840
170137 | * | 0.0336 | DOUGLAS | 17220
180064 |  | 0.0319 | MONTGOMERY | 18860
180066 | * | 0.0449 | LOGAN | 18700
180079 |  | 0.0263 | HARRISON | 18480
190044 |  | 0.0258 | ACADIA | 19000
190099 | * | 0.0188 | AVOYELLES | 19040
190184 | * | 0.0161 | CALDWELL | 19100
190190 |  | 0.0161 | CALDWELL | 19100
190246 |  | 0.0161 | CALDWELL | 19100
200032 |  | 0.0466 | OXFORD | 20080
210028 |  | 0.0512 | ST. MARY'S | 21180
230069 | * | 0.0209 | LIVINGSTON | 23460
230279 | * | 0.0209 | LIVINGSTON | 23460
240018 |  | 0.0872 | GOODHUE | 24240
270081 |  | 0.0237 | MUSSELSHELL | 27320
300011 | * | 0.0069 | HILLSBOROUGH | 30050
300012 | * | 0.0069 | HILLSBOROUGH | 30050
300020 | * | 0.0069 | HILLSBOROUGH | 30050
300034 | * | 0.0069 | HILLSBOROUGH | 30050
310010 |  | 0.0092 | MERCER | 31260
310011 |  | 0.0115 | CAPE MAY | 31180
310021 | * | 0.0092 | MERCER | 31260
310044 |  | 0.0092 | MERCER | 31260
310092 |  | 0.0092 | MERCER | 31260
310110 |  | 0.0092 | MERCER | 31260
320003 | * | 0.0629 | SAN MIGUEL | 32230
320011 |  | 0.0442 | RIO ARRIBA | 32190
330027 | * | 0.0149 | NASSAU | 33400
330106 | * | 0.0149 | NASSAU | 33400
330167 | * | 0.0149 | NASSAU | 33400
330181 | * | 0.0149 | NASSAU | 33400
330182 | * | 0.0149 | NASSAU | 33400
330198 | * | 0.0149 | NASSAU | 33400
330225 | * | 0.0149 | NASSAU | 33400
330259 | * | 0.0149 | NASSAU | 33400
330331 | * | 0.0149 | NASSAU | 33400
330332 | * | 0.0149 | NASSAU | 33400
330372 | * | 0.0149 | NASSAU | 33400
340133 |  | 0.0308 | MARTIN | 34580
360010 | * | 0.0076 | TUSCARAWAS | 36800
360013 | * | 0.0136 | SHELBY | 36760
360025 | * | 0.0072 | ERIE | 36220
360044 |  | 0.0124 | DARKE | 36190
360096 | * | 0.0072 | COLUMBIANA | 36140
360175 | * | 0.0176 | CLINTON | 36130
360185 | * | 0.0072 | COLUMBIANA | 36140
380022 | * | 0.0068 | LINN | 38210
380029 |  | 0.0075 | MARION | 38230
380051 |  | 0.0075 | MARION | 38230
380056 |  | 0.0075 | MARION | 38230
390030 | * | 0.0284 | SCHUYLKILL | 39650
390031 | * | 0.0284 | SCHUYLKILL | 39650
390065 | * | 0.049 | ADAMS | 39000
390138 | * | 0.0213 | FRANKLIN | 39350
390151 | * | 0.0213 | FRANKLIN | 39350
390162 | * | 0.02 | NORTHAMPTON | 39590
390181 | * | 0.0284 | SCHUYLKILL | 39650
390183 | * | 0.0284 | SCHUYLKILL | 39650
390313 | * | 0.0284 | SCHUYLKILL | 39650
420009 | * | 0.0113 | OCONEE | 42360
420039 | * | 0.0153 | UNION | 42430
420062 | * | 0.0109 | CHESTERFIELD | 42120
440030 |  | 0.0056 | HAMBLEN | 44310
440067 | * | 0.0056 | HAMBLEN | 44310
440084 |  | 0.0033 | MONROE | 44610
440153 |  | 0.0007 | COCKE | 44140
450324 | * | 0.0132 | GRAYSON | 45564
450370 |  | 0.024 | COLORADO | 45312
450393 | * | 0.0132 | GRAYSON | 45564
450395 | * | 0.0451 | POLK | 45850
450438 | * | 0.024 | COLORADO | 45312
450469 | * | 0.0132 | GRAYSON | 45564
450565 |  | 0.0486 | PALO PINTO | 45841
450755 |  | 0.0294 | HOCKLEY | 45652
510077 | * | 0.0021 | MINGO | 51290

15. On pages 24960 through 24977, in Table 5.—List of Proposed Medicare Severity-Diagnosis Related Groups (MS-DRGs), Relative Weighting Factors, and Geometric and Arithmetic Mean Length of Stay, the table is corrected to read as follows:

BILLING CODE 4120-01-P

BILLING CODE 4120-01-C

16. On pages 25095 through 25099, in Table 10.—Geometric Mean Plus The Lesser of .75 Of The National Adjusted Operating Standardized Payment Amount (Increased To Reflect The Difference Between Costs And Charges) Or .75 Of One Standard Deviation Of Mean Charges By Proposed Medicare Severity Diagnosis Related Group (MS-DRG) April 2007,¹ the table is corrected to read as follows:

¹ Cases taken from the FY 2006 MedPAR file; proposed MS-DRGs are from GROUPER Version 25.0.

Proposed MS-DRG | Number of cases | Threshold
1 | 629 | $337,776
2 | 328 | 177,459
3 | 23,999 | 266,199
4 | 21,742 | 162,448
5 | 842 | 159,506
6 | 495 | 90,877
7 | 413 | 130,276
8 | 560 | 92,482
9 | 1,358 | 96,148
10 | 177 | 72,498
11 | 1,289 | 71,569
12 | 1,923 | 51,377
13 | 1,484 | 36,890
20 | 901 | 138,451
21 | 558 | 107,625
22 | 251 | 74,547
23 | 3,112 | 81,762
24 | 2,576 | 60,740
25 | 8,417 | 79,522
26 | 11,626 | 52,970
27 | 14,454 | 41,141
28 | 1,609 | 73,994
29 | 2,862 | 45,280
30 | 3,751 | 30,578
31 | 1,057 | 59,862
32 | 2,987 | 35,341
33 | 4,263 | 30,562
34 | 813 | 58,045
35 | 2,506 | 42,020
36 | 7,710 | 36,365
37 | 4,777 | 51,688
38 | 14,602 | 33,107
39 | 55,357 | 25,687
40 | 4,549 | 58,682
41 | 7,720 | 39,547
42 | 5,430 | 34,186
52 | 1,156 | 29,433
53 | 593 | 22,836
54 | 4,664 | 30,610
55 | 16,896 | 24,934
56 | 7,716 | 29,072
57 | 48,432 | 19,657
58 | 789 | 28,525
59 | 2,639 | 22,939
60 | 4,201 | 17,679
61 | 1,340 | 53,318
62 | 2,288 | 41,979
63 | 1,185 | 36,186
64 | 55,552 | 34,358
65 | 112,189 | 27,004
66 | 94,547 | 21,586
67 | 1,383 | 30,616
68 | 12,393 | 23,506
69 | 103,747 | 18,936
70 | 7,092 | 34,031
71 | 10,001 | 26,444
72 | 6,056 | 20,628
73 | 8,655 | 26,844
74 | 32,523 | 21,427
75 | 1,197 | 33,931
76 | 874 | 24,318
77 | 1,101 | 32,854
78 | 1,307 | 24,933
79 | 957 | 20,523
80 | 2,077 | 24,135
81 | 8,190 | 17,502
82 | 1,646 | 33,910
83 | 1,940 | 28,383
84 | 2,591 | 22,654
85 | 5,328 | 35,679
86 | 10,382 | 26,404
87 | 12,152 | 20,144
88 | 717 | 30,107
89 | 2,641 | 23,706
90 | 3,319 | 17,874
91 | 6,676 | 29,690
92 | 14,890 | 22,313
93 | 15,484 | 17,172
94 | 1,521 | 56,938
95 | 1,088 | 42,964
96 | 755 | 36,338
97 | 1,252 | 51,314
98 | 1,048 | 35,977
99 | 642 | 30,167
100 | 15,837 | 28,714
101 | 56,905 | 19,341
102 | 1,352 | 24,321
103 | 15,023 | 17,133
113 | 568 | 31,544
114 | 601 | 21,640
115 | 1,098 | 25,563
116 | 665 | 23,828
117 | 1,400 | 16,827
121 | 587 | 22,514
122 | 674 | 13,518
123 | 2,843 | 19,108
124 | 679 | 24,153
125 | 4,705 | 16,568
129 | 1,374 | 37,663
130 | 1,072 | 28,539
131 | 655 | 35,824
132 | 728 | 27,050
133 | 1,352 | 31,142
134 | 2,661 | 20,306
135 | 781 | 35,301
136 | 1,113 | 24,451
137 | 1,108 | 28,410
138 | 1,370 | 20,587
139 | 2,145 | 22,300
146 | 687 | 35,060
147 | 1,422 | 25,142
148 | 935 | 18,944
149 | 39,248 | 15,883
150 | 939 | 25,105
151 | 6,801 | 13,607
152 | 2,352 | 22,958
153 | 16,028 | 15,145
154 | 1,843 | 27,851
155 | 4,207 | 22,020
156 | 5,140 | 16,103
157 | 1,145 | 28,232
158 | 3,039 | 21,662
159 | 2,418 | 15,345
163 | 13,431 | 79,829
164 | 18,047 | 47,971
165 | 14,553 | 37,942
166 | 20,290 | 58,779
167 | 20,772 | 40,117
168 | 5,758 | 30,294
175 | 11,954 | 33,475
176 | 40,173 | 26,670
177 | 57,179 | 36,617
178 | 71,192 | 30,381
179 | 27,454 | 24,673
180 | 22,474 | 32,948
181 | 32,156 | 26,822
182 | 6,163 | 22,468
183 | 1,654 | 29,694
184 | 4,141 | 22,561
185 | 2,593 | 15,740
186 | 8,533 | 31,857
187 | 9,968 | 25,761
188 | 5,148 | 20,974
189 | 104,531 | 28,757
190 | 57,041 | 27,770
191 | 121,659 | 24,280
192 | 196,903 | 18,419
193 | 88,053 | 29,668
194 | 266,599 | 24,679
195 | 147,744 | 18,274
196 | 5,143 | 30,999
197 | 6,894 | 25,721
198 | 4,943 | 21,129
199 | 3,257 | 33,231
200 | 8,185 | 23,984
201 | 3,523 | 17,676
202 | 31,587 | 20,635
203 | 41,587 | 15,003
204 | 26,039 | 17,394
205 | 5,775 | 26,368
206 | 22,415 | 18,854
207 | 46,165 | 83,212
208 | 79,432 | 41,398
215 | 150 | 151,502
216 | 8,411 | 165,422
217 | 7,609 | 118,088
218 | 3,256 | 98,470
219 | 10,062 | 132,460
220 | 13,481 | 94,478
221 | 8,383 | 81,144
222 | 2,865 | 149,784
223 | 5,770 | 116,219
224 | 1,919 | 138,213
225 | 5,871 | 109,030
226 | 7,048 | 112,464
227 | 50,536 | 88,444
228 | 3,084 | 126,976
229 | 4,128 | 89,139
230 | 1,989 | 73,311
231 | 1,478 | 138,287
232 | 1,795 | 107,403
233 | 16,911 | 119,988
234 | 39,167 | 86,734
235 | 9,628 | 97,022
236 | 32,871 | 68,172
237 | 21,789 | 85,211
238 | 44,929 | 53,794
239 | 13,814 | 64,168
240 | 13,349 | 43,051
241 | 3,350 | 31,297
242 | 17,179 | 64,273
243 | 37,856 | 50,218
244 | 68,201 | 42,102
245 | 6,241 | 54,054
246 | 32,661 | 64,613
247 | 279,972 | 46,787
248 | 5,013 | 58,218
249 | 29,657 | 41,876
250 | 5,739 | 53,408
251 | 39,905 | 38,200
252 | 44,602 | 48,168
253 | 46,864 | 43,475
254 | 59,029 | 34,550
255 | 2,609 | 39,961
256 | 3,833 | 30,250
257 | 774 | 23,818
258 | 598 | 49,682
259 | 7,328 | 35,034
260 | 867 | 47,446
261 | 2,804 | 28,303
262 | 3,378 | 23,301
263 | 788 | 29,053
264 | 30,137 | 39,708
280 | 60,735 | 36,717
281 | 57,734 | 28,584
282 | 60,951 | 23,031
283 | 15,852 | 30,928
284 | 4,911 | 23,409
285 | 3,254 | 17,351
286 | 23,282 | 40,266
287 | 172,488 | 28,923
288 | 3,245 | 50,617
289 | 1,423 | 36,464
290 | 484 | 28,249
291 | 183,774 | 29,157
292 | 217,052 | 24,421
293 | 226,688 | 17,810
294 | 1,704 | 21,989
295 | 1,658 | 13,805
296 | 1,730 | 26,654
297 | 943 | 20,306
298 | 554 | 12,889
299 | 17,443 | 28,063
300 | 46,820 | 21,997
301 | 39,910 | 15,712
302 | 7,873 | 23,741
303 | 81,458 | 15,192
304 | 2,084 | 24,110
305 | 35,646 | 15,139
306 | 1,379 | 27,644
307 | 6,447 | 18,857
308 | 33,528 | 27,255
309 | 79,751 | 20,827
310 | 160,738 | 14,816
311 | 24,867 | 13,364
312 | 169,247 | 18,273
313 | 220,769 | 14,894
314 | 60,053 | 30,750
315 | 30,730 | 23,629
316 | 20,101 | 16,823
326 | 11,567 | 88,786
327 | 10,901 | 49,818
328 | 9,333 | 32,074
329 | 48,135 | 80,371
330 | 66,303 | 47,127
331 | 31,391 | 35,021
332 | 1,890 | 74,102
333 | 6,196 | 46,130
334 | 4,023 | 34,266
335 | 7,161 | 68,407
336 | 12,516 | 43,200
337 | 8,835 | 32,563
338 | 1,499 | 58,047
339 | 3,192 | 39,795
340 | 3,607 | 30,753
341 | 874 | 42,806
342 | 2,536 | 31,921
343 | 6,875 | 24,258
344 | 898 | 51,426
345 | 2,915 | 33,636
346 | 2,909 | 27,779
347 | 1,568 | 36,443
348 | 3,985 | 27,800
349 | 5,787 | 19,265
350 | 1,669 | 41,035
351 | 3,997 | 28,329
352 | 8,419 | 19,894
353 | 3,182 | 44,303
354 | 9,118 | 30,612
355 | 17,451 | 23,281
356 | 8,366 | 58,953
357 | 8,046 | 40,130
358 | 2,714 | 31,167
368 | 3,052 | 31,502
369 | 4,005 | 25,728
370 | 3,914 | 20,084
371 | 16,843 | 32,446
372 | 22,903 | 26,907
373 | 14,897 | 20,598
374 | 9,414 | 34,760
375 | 19,730 | 26,563
376 | 4,816 | 22,403
377 | 50,503 | 30,943
378 | 84,806 | 24,936
379 | 128,748 | 19,140
380 | 2,917 | 32,583
381 | 4,894 | 26,915
382 | 5,445 | 20,581
383 | 1,303 | 28,065
384 | 8,664 | 21,556
385 | 2,107 | 33,476
386 | 7,221 | 25,067
387 | 5,230 | 20,543
388 | 18,267 | 29,699
389 | 46,328 | 23,347
390 | 48,052 | 16,336
391 | 47,511 | 24,761
392 | 306,515 | 17,829
393 | 23,917 | 28,925
394 | 45,952 | 23,434
395 | 26,460 | 17,594
405 | 3,903 | 83,940
406 | 5,241 | 49,125
407 | 2,310 | 36,497
408 | 1,644 | 67,203
409 | 1,713 | 46,400
410 | 722 | 35,648
411 | 978 | 65,359
412 | 1,063 | 47,834
413 | 881 | 37,325
414 | 5,596 | 59,660
415 | 6,847 | 40,610
416 | 6,222 | 30,251
417 | 16,671 | 46,291
418 | 27,563 | 36,466
419 | 38,264 | 28,533
420 | 714 | 61,258
421 | 1,091 | 36,437
422 | 364 | 28,520
423 | 1,500 | 63,840
424 | 912 | 44,260
425 | 157 | 35,667
432 | 16,259 | 30,416
433 | 9,022 | 22,852
434 | 945 | 17,210
435 | 11,908 | 32,613
436 | 13,987 | 26,367
437 | 4,357 | 23,539
438 | 14,426 | 31,691
439 | 24,816 | 25,250
440 | 27,346 | 18,913
441 | 13,912 | 29,122
442 | 12,756 | 23,365
443 | 6,698 | 18,374
444 | 12,447 | 31,276
445 | 16,757 | 25,851
446 | 16,849 | 20,274
453 | 846 | 162,178
454 | 1,496 | 110,006
455 | 1,875 | 85,089
456 | 764 | 132,358
457 | 1,763 | 93,955
458 | 1,534 | 78,607
459 | 3,180 | 93,067
460 | 50,317 | 61,555
461 | 1,062 | 78,144
462 | 14,234 | 58,820
463 | 5,283 | 64,018
464 | 6,322 | 42,171
465 | 2,942 | 31,102
466 | 4,152 | 70,822
467 | 10,818 | 52,840
468 | 28,701 | 44,445
469 | 29,730 | 57,143
470 | 410,173 | 41,440
471 | 2,227 | 71,285
472 | 6,218 | 48,040
473 | 22,546 | 39,667
474 | 2,829 | 51,053
475 | 3,530 | 35,636
476 | 1,698 | 26,070
477 | 2,257 | 57,109
478 | 7,144 | 41,570
479 | 10,267 | 33,395
480 | 25,866 | 50,686
481 | 59,136 | 38,146
482 | 64,739 | 33,332
483 | 5,729 | 44,536
484 | 17,949 | 37,665
485 | 967 | 55,459
486 | 1,535 | 40,900
487 | 1,214 | 33,214
488 | 1,551 | 33,205
489 | 3,866 | 26,495
490 | 19,803 | 34,057
491 | 58,396 | 24,028
492 | 4,700 | 48,148
493 | 15,248 | 36,196
494 | 30,563 | 28,910
495 | 1,867 | 51,435
496 | 5,049 | 34,292
497 | 7,519 | 27,156
498 | 1,177 | 36,767
499 | 1,245 | 22,858
500 | 1,349 | 47,836
501 | 3,679 | 30,766
502 | 6,825 | 23,032
503 | 736 | 38,112
504 | 2,155 | 30,857
505 | 3,214 | 24,352
506 | 909 | 25,023
507 | 779 | 33,035
508 | 2,722 | 26,249
509 | 465 | 25,608
510 | 957 | 38,420
511 | 4,008 | 30,072
512 | 11,961 | 23,087
513 | 1,287 | 29,502
514 | 1,339 | 20,718
515 | 3,577 | 51,402
516 | 10,963 | 37,292
517 | 18,263 | 30,388
533 | 828 | 27,486
534 | 3,634 | 15,819
535 | 6,844 | 27,022
536 | 34,321 | 15,408
537 | 654 | 20,405
538 | 1,164 | 12,954
539 | 3,379 | 34,667
540 | 4,187 | 27,375
541 | 1,858 | 22,002
542 | 6,158 | 33,306
543 | 18,413 | 25,124
544 | 12,644 | 18,008
545 | 4,016 | 34,451
546 | 5,881 | 24,102
547 | 4,880 | 18,469
548 | 591 | 33,006
549 | 1,077 | 25,270
550 | 904 | 18,381
551 | 9,502 | 29,646
552 | 87,859 | 18,492
553 | 2,790 | 24,265
554 | 20,253 | 14,944
555 | 1,995 | 22,555
556 | 19,168 | 14,428
557 | 3,184 | 29,321
558 | 14,178 | 19,372
559 | 1,635 | 28,972
560 | 3,979 | 20,901
561 | 7,617 | 13,636
562 | 4,996 | 26,929
563 | 36,056 | 15,451
564 | 1,606 | 27,237
565 | 3,237 | 21,478
566 | 2,779 | 15,695
573 | 5,687 | 46,949
574 | 12,100 | 33,325
575 | 6,468 | 25,393
576 | 558 | 44,896
577 | 2,179 | 31,142
578 | 3,299 | 23,686
579 | 3,088 | 44,811
580 | 6,766 | 31,460
581 | 5,288 | 23,941
582 | 8,972 | 24,930
583 | 15,549 | 19,001
584 | 1,431 | 27,897
585 | 2,818 | 20,786
592 | 3,982 | 30,226
593 | 12,832 | 23,538
594 | 2,955 | 16,562
595 | 1,082 | 29,610
596 | 5,755 | 19,571
597 | 548 | 29,514
598 | 1,483 | 23,497
599 | 350 | 15,943
600 | 572 | 21,988
601 | 865 | 15,125
602 | 21,307 | 26,948
603 | 130,923 | 18,145
604 | 2,627 | 25,150
605 | 22,672 | 16,152
606 | 1,363 | 22,966
607 | 7,169 | 14,791
614 | 1,376 | 44,346
615 | 1,626 | 32,541
616 | 1,132 | 61,354
617 | 6,822 | 37,382
618 | 343 | 28,522
619 | 663 | 60,076
620 | 1,877 | 41,119
621 | 6,556 | 35,242
622 | 1,234 | 45,937
623 | 3,268 | 33,291
624 | 487 | 24,889
625 | 1,098 | 40,232
626 | 2,522 | 27,537
627 | 14,305 | 19,134
628 | 3,267 | 51,514
629 | 3,958 | 40,808
630 | 684 | 31,392
637 | 16,283 | 26,892
638 | 40,811 | 20,070
639 | 41,135 | 14,010
640 | 55,690 | 23,971
641 | 188,104 | 16,575
642 | 1,542 | 23,138
643 | 5,014 | 31,125
644 | 11,845 | 24,210
645 | 8,402 | 18,520
652 | 10,437 | 57,281
653 | 1,585 | 86,150
654 | 3,231 | 54,167
655 | 1,650 | 40,670
656 | 3,721 | 56,568
657 | 7,359 | 38,736
658 | 8,479 | 32,186
659 | 4,442 | 51,032
660 | 7,444 | 36,348
661 | 4,745 | 29,748
662 | 988 | 41,594
663 | 2,131 | 29,231
664 | 4,676 | 23,754
665 | 690 | 46,858
666 | 2,213 | 30,439
667 | 3,948 | 19,910
668 | 3,757 | 39,537
669 | 12,491 | 27,870
670 | 13,411 | 19,410
671 | 884 | 28,518
672 | 965 | 19,128
673 | 12,577 | 43,111
674 | 10,503 | 40,270
675 | 11,704 | 31,229
682 | 75,827 | 30,254
683 | 112,129 | 25,615
684 | 43,451 | 19,020
685 | 2,493 | 19,996
686 | 1,581 | 31,234
687 | 3,322 | 24,255
688 | 1,198 | 18,441
689 | 55,398 | 25,904
690 | 200,059 | 18,352
691 | 898 | 31,887
692 | 654 | 25,534
693 | 2,235 | 27,712
694 | 19,213 | 17,667
695 | 974 | 24,032
696 | 10,565 | 14,808
697 | 575 | 17,475
698 | 21,061 | 27,909
699 | 22,820 | 23,309
700 | 15,089 | 17,723
707 | 4,874 | 35,532
708 | 17,015 | 29,281
709 | 755 | 34,020
710 | 2,037 | 27,689
711 | 921 | 34,145
712 | 819 | 20,449
713 | 11,755 | 25,154
714 | 32,745 | 15,644
715 | 638 | 34,191
716 | 1,382 | 26,921
717 | 634 | 31,538
718 | 633 | 19,455
722 | 871 | 28,980
723 | 2,037 | 23,777
724 | 666 | 15,999
725 | 802 | 23,413
726 | 3,940 | 16,420
727 | 1,098 | 26,180
728 | 6,176 | 16,848
729 | 578 | 22,426
730 | 552 | 14,387
734 | 1,470 | 39,650
735 | 1,328 | 26,263
736 | 840 | 68,822
737 | 3,429 | 39,321
738 | 954 | 28,973
739 | 975 | 48,200
740 | 4,366 | 31,584
741 | 6,554 | 24,119
742 | 10,705 | 29,966
743 | 35,310 | 21,122
744 | 1,498 | 28,762
745 | 2,189 | 20,066
746 | 2,486 | 27,713
747 | 11,218 | 20,664
748 | 21,171 | 19,841
749 | 1,037 | 42,792
750 | 484 | 24,671
754 | 1,083 | 31,715
755 | 3,152 | 24,245
756 | 831 | 16,790
757 | 1,322 | 31,004
758 | 1,597 | 24,623
759 | 1,186 | 19,161
760 | 1,703 | 19,848
761 | 1,918 | 13,557
765 | 2,497 | 22,146
766 | 2,634 | 14,889
767 | 119 | 15,750
768 | 10 | 28,201
769 | 86 | 29,901
770 | 181 | 18,191
774 | 1,442 | 12,637
775 | 5,224 | 9,066
776 | 491 | 15,413
777 | 177 | 19,480
778 | 489 | 8,798
779 | 107 | 14,082
780 | 47 | 5,638
781 | 3,004 | 13,343
782 | 125 | 8,369
794 | 7 | 2,880
799 | 623 | 76,151
800 | 699 | 45,583
801 | 602 | 35,355
802 | 691 | 51,739
803 | 1,003 | 33,630
804 | 996 | 25,527
808 | 8,315 | 34,115
809 | 15,527 | 24,895
810 | 3,818 | 21,504
811 | 18,344 | 24,532
812 | 83,082 | 18,156
813 | 15,031 | 25,132
814 | 1,631 | 29,730
815 | 3,337 | 23,820
816 | 2,355 | 18,234
820 | 1,481 | 83,993
821 | 2,529 | 40,735
822 | 2,139 | 28,780
823 | 2,436 | 64,907
824 | 3,039 | 40,522
825 | 2,009 | 29,739
826 | 562 | 77,350
827 | 1,318 | 40,156
828 | 872 | 29,232
829 | 1,374 | 44,261
830 | 531 | 25,785
834 | 5,257 | 51,445
835 | 1,469 | 30,879
836 | 1,526 | 23,524
837 | 1,623 | 85,432
838 | 900 | 41,508
839 | 1,385 | 26,968
840 | 15,152 | 38,374
841 | 11,012 | 29,060
842 | 7,678 | 22,849
843 | 1,477 | 32,639
844 | 2,854 | 25,034
845 | 1,008 | 21,623
846 | 2,480 | 37,292
847 | 23,667 | 25,136
848 | 1,699 | 20,748
849 | 1,498 | 26,843
853 | 31,444 | 77,914
854 | 6,881 | 50,010
855 | 467 | 36,089
856 | 6,187 | 69,506
857 | 10,059 | 36,989
858 | 3,500 | 28,786
862 | 7,425 | 33,012
863 | 21,807 | 21,882
864 | 19,826 | 20,564
865 | 2,019 | 27,840
866 | 9,406 | 16,786
867 | 5,306 | 38,488
868 | 2,369 | 24,746
869 | 1,100 | 20,520
870 | 13,710 | 90,935
871 | 203,702 | 33,685
872 | 92,118 | 25,456
876 | 968 | 40,268
880 | 10,494 | 15,328
881 | 4,576 | 11,727
882 | 1,656 | 12,481
883 | 786 | 17,701
884 | 21,619 | 19,048
885 | 77,763 | 16,598
886 | 376 | 14,393
887 | 423 | 18,850
894 | 4,480 | 8,389
895 | 6,474 | 16,201
896 | 5,369 | 25,303
897 | 35,835 | 13,689
901 | 917 | 48,598
902 | 2,135 | 31,632
903 | 1,739 | 24,530
904 | 941 | 39,574
905 | 798 | 25,597
906 | 745 | 23,573
907 | 8,098 | 53,982
908 | 7,884 | 35,453
909 | 5,971 | 26,248
913 | 813 | 26,149
914 | 6,958 | 16,346
915 | 915 | 24,023
916 | 5,369 | 10,725
917 | 14,155 | 28,466
918 | 34,847 | 14,539
919 | 10,569 | 27,881
920 | 12,135 | 22,284
921 | 11,659 | 15,316
922 | 1,005 | 26,606
923 | 4,211 | 16,053
927 | 182 | 181,306
928 | 794 | 60,107
929 | 459 | 32,721
933 | 155 | 31,143
934 | 694 | 23,842
935 | 2,179 | 21,397
939 | 423 | 43,099
940 | 690 | 32,755
941 | 1,077 | 26,227
945 | 5,053 | 21,694
946 | 3,199 | 17,198
947 | 6,544 | 23,445
948 | 34,325 | 15,485
949 | 742 | 18,955
950 | 476 | 12,079
951 | 990 | 14,489
955 | 446 | 82,175
956 | 3,718 | 55,062
957 | 1,157 | 102,443
958 | 737 | 70,330
959 | 816 | 53,566
963 | 1,395 | 46,322
964 | 1,578 | 32,525
965 | 2,016 | 27,560
969 | 598 | 75,122
970 | 231 | 47,821
974 | 7,276 | 34,615
975 | 3,463 | 29,344
976 | 2,728 | 23,762
977 | 4,871 | 23,005
981 | 26,280 | 77,452
982 | 18,594 | 53,442
983 | 6,766 | 38,481
984 | 669 | 55,818
985 | 1,048 | 38,813
986 | 890 | 27,837
987 | 8,036 | 54,475
988 | 11,880 | 36,064
989 | 6,537 | 26,243
999 | 18 | 16,006

17. On pages 25118 through 25123, in Table I.—Impact Analysis of Proposed Changes For FY 2008, the listed entries and footnotes are corrected to read as follows:

BILLING CODE 4120-01-P

BILLING CODE 4120-01-C

18. On page 25124,

⁶ Shown here are the tentative effects of geographic reclassifications by the Medicare Geographic Classification Review Board (MGCRB). The effects demonstrate the FY 2008 payment impact of going from no reclassifications to the reclassifications scheduled to be in effect for FY 2008. Reclassification for prior years has no bearing on the payment impacts shown here. This column reflect the geographic budget neutrality factor of 0.991925.

⁷ This column displays the effects of the proposed changes in the rural floor budget neutrality adjustment applied on the wage index instead of on the standardized amount. The column reflects a proposed rural floor budget neutrality factor of 0.997080.

¹¹ This column shows tentative changes in payments from FY 2007 to FY 2008 including a 0.976 case mix index adjustment for coding and documentation improvements that are anticipated with the adoption of the MS-DRGs prior to the assumed growth occurring. In incorporates all of the changes displayed in Columns 4, 5, 6, 7, 8, 9, 10 and (the changes displayed in Columns 2 and 3 are included in Column 4).

¹² This column shows tentative changes in payments from FY 2007 to FY 2008 with a case mix index adjustment and the assumed growth for improvements in documentation and coding. It incorporates all of the changes displayed in Columns 4, 5, 6, 7, 8, 9, 10 and (the changes displayed in Columns 2 and 3 are included in Column 4). It also reflects the impact of the proposed FY 2008 update, and changes in hospitals' reclassification status in FY 2008 compared to FY 2007. The sum of these impacts may be different from the percentage changes shown here due to rounding and interactive effects.

a. First column, second full paragraph, line 25, the figure “0.999317” is corrected to read “0.999367.”

b. Second column, last paragraph, line 3, the figure “0.999317” is corrected to read “0.999367.”

19. On page 25125,

a. First column, last paragraph, line 5, the figure “0.991938” is corrected to read “0.991925.”

b. Second column, first full paragraph, line 17, the figure “0.997084” is corrected to read “0.997080.”

20. On pages 25126 through 25128, in Table II.—Impact Analysis of Proposed Changes For FY 2008 Operating Prospective Payment System, the listed entries are corrected to read as follows:

Table II.—Impact Analysis of Proposed Changes for FY 2008 Operating Prospective Payment System (Payments per Case)
[Percent changes in payments per case]
| Number of hospitals | Published average proposed FY 2008 payment per case ¹ | Corrected average proposed FY 2008 payment per case ¹ | Published all proposed FY 2008 changes | Corrected all proposed FY 2008 changes
| (1) | (3) | (3) | (4) | (4)
All hospitals | 3535 | 9299 | 9299 | 3.3 | 3.3
By Geographic Location:
Urban hospitals | 2540 | 9678 | 9680 | 3.6 | 3.6
Large urban areas (populations over 1 million) | 1409 | 10156 | 10157 | 4.2 | 4.2
Other urban areas (populations of 1 million or fewer) | 1131 | 9103 | 9107 | 2.8 | 2.9
Rural hospitals | 995 | 7123 | 7110 | 0.9 | 0.7
Bed Size (Urban):
0-99 beds | 632 | 7263 | 7261 | 0.4 | 0.3
100-199 beds | 849 | 8170 | 8159 | 3.4 | 3.2
200-299 beds | 480 | 9120 | 9117 | 3.5 | 3.4
300-499 beds | 412 | 10136 | 10143 | 4.0 | 4.0
500 or more beds | 167 | 12234 | 12254 | 4.0 | 4.2
Bed Size (Rural):
0-49 beds | 342 | 6065 | 6045 | −1.6 | −1.9
50-99 beds | 369 | 6588 | 6572 | 0.5 | 0.2
100-149 beds | 172 | 6960 | 6945 | 1.3 | 1.1
150-199 beds | 67 | 7735 | 7727 | 1.4 | 1.3
200 or more beds | 45 | 8938 | 8937 | 2.0 | 2.0
Urban by Region:
New England | 126 | 10001 | 10004 | 2.6 | 2.6
Middle Atlantic | 350 | 10529 | 10532 | 2.8 | 2.8
South Atlantic | 388 | 9175 | 9176 | 4.2 | 4.3
East North Central | 395 | 9197 | 9199 | 3.4 | 3.5
East South Central | 166 | 8784 | 8786 | 3.2 | 3.2
West North Central | 156 | 9321 | 9334 | 2.8 | 3.0
West South Central | 358 | 9174 | 9175 | 4.0 | 4.0
Mountain | 153 | 9826 | 9836 | 3.3 | 3.5
Pacific | 395 | 11657 | 11656 | 4.7 | 4.7
Puerto Rico | 53 | 4525 | 4511 | 3.6 | 3.3
Rural by Region:
New England | 19 | 9714 | 9716 | 0.4 | 0.4
Middle Atlantic | 72 | 7525 | 7514 | 0.8 | 0.6
South Atlantic | 173 | 6700 | 6683 | 1.8 | 1.6
East North Central | 124 | 7574 | 7567 | 0.7 | 0.6
East South Central | 177 | 6479 | 6462 | 1.2 | 1.0
West North Central | 115 | 7792 | 7786 | 0.6 | 0.6
West South Central | 194 | 6339 | 6322 | −0.7 | −0.9
Mountain | 80 | 7834 | 7822 | 0.9 | 0.7
Pacific | 41 | 8896 | 8881 | 2.0 | 1.8
By Payment Classification:
Urban hospitals | 2619 | 9629 | 9631 | 3.6 | 3.6
Large urban areas (populations over 1 million) | 1436 | 10127 | 10128 | 4.1 | 4.1
Other urban areas (populations of 1 million or fewer) | 1183 | 9034 | 9038 | 2.8 | 2.8
Rural areas | 916 | 7242 | 7230 | 0.9 | 0.8
Teaching Status:
Non-teaching | 2479 | 7851 | 7844 | 2.7 | 2.6
Fewer than 100 Residents | 816 | 9384 | 9385 | 3.5 | 3.5
100 or more Residents | 240 | 13533 | 13555 | 4.1 | 4.2
Urban DSH:
Non-DSH | 879 | 8307 | 8314 | 2.0 | 2.1
100 or more beds | 1527 | 10182 | 10183 | 4.0 | 4.0
Less than 100 beds | 359 | 6697 | 6682 | 1.9 | 1.6
Rural DSH:
SCH | 391 | 7013 | 6994 | 0.3 | 0.0
RRC | 189 | 7818 | 7809 | 1.7 | 1.6
100 or more beds | 36 | 6028 | 6010 | 2.1 | 1.8
Less than 100 beds | 154 | 5353 | 5335 | 0.4 | 0.0
Urban teaching and DSH:
Both teaching and DSH | 805 | 11185 | 11192 | 4.0 | 4.1
Teaching and no DSH | 192 | 9078 | 9089 | 2.5 | 2.6
No teaching and DSH | 1081 | 8283 | 8273 | 3.7 | 3.5
No teaching and no DSH | 541 | 7812 | 7817 | 1.9 | 2.0
Rural Hospital Types:
RRC | 59 | 8358 | 8359 | 2.5 | 2.5
SCH | 45 | 9301 | 9296 | 0.8 | 0.8
MDH | 21 | 6339 | 6319 | 0.3 | 0.0
SCH and RRC | 17 | 10239 | 10236 | 2.7 | 2.7
MDH and RRC | 1 | 9674 | 9677 | −0.8 | −0.8
Type of Ownership:
Voluntary | 2069 | 9424 | 9427 | 3.2 | 3.2
Proprietary | 823 | 8478 | 8471 | 3.7 | 3.6
Government | 598 | 9593 | 9589 | 3.5 | 3.4
Medicare Utilization as a Percent of Inpatient Days:
0-25 | 230 | 13443 | 13434 | 5.6 | 5.5
25-50 | 1292 | 10570 | 10576 | 4.0 | 4.1
50-65 | 1453 | 8116 | 8113 | 2.6 | 2.5
Over 65 | 441 | 7331 | 7325 | 1.2 | 1.2
Hospitals Reclassified by the Medicare Geographic Classification Review Board: FY 2008 Reclassifications:
All Reclassified Hospitals FY 2008 | 801 | 8938 | 8937 | 2.8 | 2.8
All Non-Reclassified Hospitals FY 2008 | 2734 | 9417 | 9416 | 3.4 | 3.4
Urban Reclassified Hospitals FY 2008 | 434 | 9581 | 9595 | 3.3 | 3.4
Urban Non-reclassified Hospitals FY 2008 | 2105 | 9701 | 9705 | 3.6 | 3.7
Rural Reclassified Hospitals FY 2008 | 367 | 7669 | 7663 | 1.5 | 1.4
Rural Nonreclassified Hospitals FY 2008 | 568 | 6392 | 6374 | −0.3 | −0.6
All Section 401 Reclassified Hospitals | 31 | 8799 | 8787 | 1.8 | 1.6
Other Reclassified Hospitals (Section 1886(d)(8)(B)) | 61 | 6729 | 6710 | 1.4 | 1.1
Former Section 508 Hospitals | 107 | 9814 | 9823 | 0.5 | 0.6
Specialty Hospitals
Cardiac Specialty Hospitals | 22 | 10676 | 10727 | −0.6 | −0.1
¹ These payment amounts per case do not reflect any estimates of annual case-mix increase.

(Catalog of Federal Domestic Assistance Program No. 93.773, Medicare—Hospital Insurance; and Program No. 93.774, Medicare—Supplementary Medical Insurance Program)
Dated: June 1, 2007.
Ann C. Agnew,
Executive Secretary to the Department.

[FR Doc. 07-2806 Filed 6-1-07; 2:04 pm]

BILLING CODE 4120-01-P